FEDERAL MARITIME COMMISSION

46 CFR Chapter IV

[Docket No. 22-04]

RIN 3072-AC90

Demurrage and Detention Billing Requirements

AGENCY: Federal Maritime Commission.

ACTION: Advance notice of proposed rulemaking; Extension of comment period.

SUMMARY: The Federal Maritime Commission (Commission) is extending the deadline for the submission of public comments in response to its February 15, 2022, Advance Notice of Proposed Rulemaking on demurrage and detention billing requirements. The Commission grants the request by a coalition of associations seeking a 30-day extension to the comment period.

DATES: The comments due date for the advance notice of proposed rulemaking published February 15, 2022, at 87 FR 8506 is extended. Submit comments on or before April 16, 2022.

ADDRESSES: You may submit comments, identified by Docket No. 22-04, by email at secretary@fmc.gov. For comments, include in the subject line: “Docket No. 22-04, Comments on Demurrage and Detention Billing Requirements ANPRM.” Comments should be attached to the email as a Microsoft Word or text-searchable PDF document. Only non-confidential and public versions of confidential comments should be submitted by email.

Instructions: For detailed instructions on submitting comments, including requesting confidential treatment of comments, and additional information on the rulemaking process, see the Public Participation heading of the Supplementary Information section of this document. Note that all comments received will be posted without change to the Commission's website unless the commenter has requested confidential treatment.

Docket: For access to the docket to read background documents or comments received, go to the Commission's Electronic Reading Room at: https://www2.fmc.gov/readingroom/proceeding/22-04.

FOR FURTHER INFORMATION CONTACT: William Cody, Secretary; Phone: (202) 523-5725; Email: secretary@fmc.gov.

SUPPLEMENTARY INFORMATION:

I. Public Participation

How do I prepare and submit comments?

Your comments must be written in English. To ensure that your comments are correctly filed in the docket, please include the docket number of this document in your comments.

You may submit your comments via email to the email address listed above under ADDRESSES. Please include the docket number associated with this notice and the subject matter in the subject line of the email. Comments should be attached to the email as a Microsoft Word or text-searchable PDF document. Only non-confidential and public versions of confidential comments should be submitted by email.

How do I submit confidential business information?

The Commission will provide confidential treatment for identified confidential information to the extent allowed by law. If your comments contain confidential information, you must submit the following by email to the address listed above under ADDRESSES:

• A transmittal letter requesting confidential treatment that identifies the specific information in the comments for which protection is sought and demonstrates that the information is a trade secret or other confidential research, development, or commercial information.

• A confidential copy of your comments, consisting of the complete filing with a cover page marked “Confidential-Restricted,” and the confidential material clearly marked on each page. You should submit the confidential copy to the Commission by mail.

• A public version of your comments with the confidential information excluded. The public version must state “Public Version—confidential materials excluded” on the cover page and on each affected page and must clearly indicate any information withheld. You may submit the public version to the Commission by email or mail.

Will the Commission consider late comments?

The Commission will consider all comments received before the close of business on the comment closing date indicated above under DATES. To the extent possible, we will also consider comments received after that date.

How can I read comments submitted by other people?

You may read the comments received by the Commission at the Commission's Electronic Reading Room or the Docket Activity Library at the addresses listed above under ADDRESSES.

II. Discussion

On February 15, 2022, the Commission issued an Advance Notice of Proposed Rulemaking (ANPRM) on demurrage and detention billing requirements. 87 FR 8506. The ANPRM seeks comments on whether the Commission should require common carriers and marine terminal operators to include certain minimum information on or with demurrage and detention billings. Also, the Commission is interested in receiving comments on whether it should require common carriers and marine terminal operators to adhere to certain practices regarding the timing of demurrage and detention billings.

On March 3, 2022, the Commission received a letter, attached, signed by 44 associations requesting that the Commission extend the comment period by an additional 30 days. The associations stated that they “are in the process of surveying respective member companies to gather their experiences and document them in a manner that is most helpful to the FMC.” The letter furthers says that the extension would facilitate the associations' efforts to collect information regarding the impact of demurrage and detention billing practices.

This notice grants the request for an extension of the 30-day comment period by an additional 30 days. The comment period now expires on April 16, 2022.

By the Commission.
William Cody,
Secretary.

[FR Doc. 2022-05572 Filed 3-16-22; 8:45 am]

BILLING CODE 6730-02-P